DEPARTMENT OF HOMELAND SECURITY

[Docket No. DHS-2014-0058]

Agency Information Collection Activities: DHS Individual Complaint of Employment Discrimination, DHS Form 3090-1

AGENCY: Office for Civil Rights and Civil Liberties, DHS.

ACTION: 60-Day notice and request for comments; Reinstatement with change of a previously approved collection, 1610-0001.

SUMMARY: The Department of Homeland Security, Office for Civil Rights and Civil Liberties, will submit the following Information Collection Request (ICR) to the Office of Management and Budget (OMB) for review and clearance in accordance with the Paperwork Reduction Act of 1995 (Pub. L. 104-13, 44 U.S.C. Chapter 35).

DATES: Comments are encouraged and will be accepted until December 22, 2014. This process is conducted in accordance with 5 CFR 1320.1.

ADDRESSES: You may submit comments, identified by docket number DHS-2014-0058, by one of the following methods:

• Federal eRulemaking Portal: http://www.regulations.gov. Please follow the instructions for submitting comments.

• Email: dhs.pra@hq.dhs.gov. Please include docket number DHS-2014-0058 in the subject line of the message.

SUPPLEMENTARY INFORMATION: It is the policy of the Government of the United States to provide equal opportunity in employment for all persons, to prohibit discrimination in employment because of race, color, religion, sex, national origin, age, disability, protected genetic information, sexual orientation, or status as a parent, and to promote the full realization of equal employment opportunity (EEO) through a continuing affirmative program in each agency.

Persons who claim to have been subjected to these types of discrimination, or to retaliation for opposing these types of discrimination or for participating in any stage of administrative or judicial proceedings relating to them, can seek a remedy under Title VII of the Civil Rights Act (Title VII) (42 U.S.C. 2000e et seq.) (race, color, religion, sex, national origin), the Age Discrimination in Employment Act (ADEA) (29 U.S.C. 621 et seq.) (age), the Equal Pay Act (29 U.S.C. 206(d)) (sex), the Rehabilitation Act (29 U.S.C. 791 et seq.) (disability), the Genetic Information Nondiscrimination Act (GINA) (42 U.S.C. 2000ff et seq.) (genetic information), and Executive Order 11478 (as amended by Executive Orders 13087 and 13152) (sexual orientation or status as a parent).

The Department of Homeland Security (DHS), Office for Civil Rights and Civil Liberties (CRCL) adjudicates discrimination complaints filed by current and former DHS employees, as well as applicants for employment to DHS. The complaint adjudication process for statutory rights is outlined in the Equal Employment Opportunity Commission (EEOC) regulations found at Title 29, Code of Federal Regulations Part 1614 and EEO Management Directive 110. For complaints regarding sexual orientation or status as a parent, DHS follows the same procedures as for statutory rights, to the extent permitted by law.

The recordkeeping provisions are designed to ensure that a current employee, former employee, or applicant for employment claiming to be aggrieved or that person's attorney provide a signed statement that is sufficiently precise to identify the aggrieved individual and the agency and to describe generally the action(s) or practice(s) that form the basis of the complaint. The complaint must also contain a telephone number and address where the complainant or the representative can be contacted. The complaint form is used for original allegations of discrimination but also for amendments to underlying complaints of discrimination. The form also determines whether the person is willing to participate in mediation or other available types of alternative dispute resolution (ADR) to resolve their complaint; Congress has enacted legislation to encourage the use of ADR in the federal sector and the form ensures that such an option is considered at this preliminary stage of the EEO complaint process.

A complainant may access the complaint form on the agency Web site and may submit a completed complaint form electronically to the relevant Component's EEO Office. The complaint form can then be directly uploaded into the DHS EEO Enterprise Complaints Tracking System, also known as “iComplaints.”

There is no change or adjustment to the burden associated with the collection of information associated with the DHS complaint form. DHS is proposing to make one change to the DHS compliant form. This change is the addition of a new checkbox that says “gender identity” as a sub-category under the existing checkbox that says “sex” on the form. Gender identity discrimination is a form of sex discrimination, which is covered under Title VII. So this information is already included in data gathered in EEO complaints; adding the separate check box just more clearly identifies a sub-category. This form modification is in accordance with new instructions from EEOC—requiring all government agencies to specifically identify this type of information on our complaint forms.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office for Civil Rights and Civil Liberties, DHS.

Title: DHS Individual Complaint of Employment Discrimination.

OMB Number: 1610-0001.

Frequency: Annually.

Affected Public: Federal Government.

Number of Respondents: 1200.

Estimated Time per Respondent: 30 minutes.

Total Burden Hours: 600 hours.

Dated: October 9, 2014.
Margaret H. Graves,
Deputy Chief Information Officer.

[FR Doc. 2014-25055 Filed 10-21-14; 8:45 am]

BILLING CODE 9110-9B-P